DEPARTMENT OF COMMERCE

National Oceanic and Atmospheric Administration

RIN 0648-XA104

Pacific Fishery Management Council; Public Meeting

AGENCY: National Marine Fisheries Service (NMFS), National Oceanic and Atmospheric Administration (NOAA), Commerce.

ACTION: Notice of public online meeting.

SUMMARY: The Groundfish and Coastal Pelagic Species (CPS) Subcommittees of the Pacific Fishery Management Council's (Pacific Council's) Scientific and Statistical Committee (SSC) will hold a meeting to review proposed revisions to the Terms of Reference for the Groundfish and Coastal Pelagic Species Stock Assessment Review Process for 2021 and 2022. The meeting is open to the public.

DATES: The SSC Groundfish and CPS Subcommittees' online meeting will be held Tuesday, April 21, 2020 beginning at 1 p.m. and continuing until 4 p.m. Pacific Daylight Time or until business for the day has been completed.

ADDRESSES: The SSC's Groundfish and CPS Subcommittees' meeting will be an online meeting.

Instructions to attend the online meeting:

Join from PC, Mac, Linux, iOS or Android: https://meetings.ringcentral.com/j/1489984146.

Or iPhone one-tap: US: +1(623)4049000, 1489984146# (U.S. West), +1(720)9027700, 1489984146# (U.S. Central), +1(773)2319226, 1489984146# (U.S. North), +1(469)4450100, 1489984146# (U.S. South), +1(470)8692200, 1489984146# (U.S. East).

Or Telephone: Dial (for higher quality, dial a number based on your current location): US: +1(623) 404-9000 (U.S. West), +1(720) 902-7700 (U.S. Central), +1 (773) 231-9226 (U.S. North), +1 (469) 445-0100 (U.S. South), +1 (470) 869-2200 (U.S. East).

Meeting ID: 148 998 4146.

International numbers available: https://meetings.ringcentral.com/teleconference.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Groundfish and CPS Subcommittees' meeting is to review proposed changes to the Terms of Reference for the Groundfish and Coastal Pelagic Species Stock Assessment Review Process for 2021 and 2022 that will inform the process for conducting and reviewing groundfish and CPS assessments in 2021 and 2022. Members of the Pacific Council's groundfish and CPS advisory bodies are encouraged to attend to prepare their recommendations to the Council. Proposed changes to the Terms of Reference were first considered in an online webinar on December 13, 2019. A report from that webinar was discussed by the SSC at their March meeting and their recommended changes to the ToR were adopted by the Pacific Council for public review. The Pacific Council is scheduled to adopt a final Terms of Reference at their June meeting in San Diego, California.

No management actions will be decided by the SSC's Groundfish and CPS Subcommittees. The SSC Groundfish and CPS Subcommittees' members' role will be development of recommendations and reports for consideration by the SSC and Pacific Council at the June meeting in San Diego, CA.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

This meeting is physically accessible to people with disabilities. Requests for sign language interpretation or other auxiliary aids should be directed to Mr. Kris Kleinschmidt, (503) 820-2411, at least 10 days prior to the meeting date.

Authority: 16 U.S.C. 1801 et seq.

Dated: April 1, 2020.
Diane M. DeJames-Daly,
Acting Deputy Director, Office of Sustainable Fisheries, National Marine Fisheries Service.

[FR Doc. 2020-07133 Filed 4-3-20; 8:45 am]

BILLING CODE 3510-22-P